DEPARTMENT OF COMMERCE

National Oceanic and Atmospheric Administration

[RTID 0648-XA991]

North Pacific Fishery Management Council; Public Meeting

AGENCY: National Marine Fisheries Service (NMFS), National Oceanic and Atmospheric Administration (NOAA), Commerce.

ACTION: Notice of webconference.

SUMMARY: The North Pacific Fishery Management Council's (NPFMC) Ecosystem Committee will meet April 20, 2021.

DATES: The meeting will be held on Tuesday, April 20, 2021, from 9 a.m. to 12 p.m., Alaska time.

ADDRESSES: The meeting will be a webconference. Join online through the link at https://meetings.npfmc.org/Meeting/Details/2004.

Council address: North Pacific Fishery Management Council, 1007 W 3rd Ave., Anchorage, AK 99501-2252; telephone: (907) 271-2809. Instructions for attending the meeting are given under SUPPLEMENTARY INFORMATION, below.

FOR FURTHER INFORMATION CONTACT: Steve MacLean, Council staff; phone: (907) 271-2809 and email: steve.maclean@noaa.gov. For technical support please contact administrative Council staff, email: npfmc.admin@noaa.gov.

SUPPLEMENTARY INFORMATION:

Agenda

Tuesday, April 20, 2021

The Ecosystem Committee will discuss potential agenda items and develop a workplan for the committee. The agenda is subject to change, and the latest version will be posted at https://meetings.npfmc.org/Meeting/Details/2004 prior to the meeting, along with meeting materials.

Connection Information

You can attend the meeting online using a computer, tablet, or smart phone; or by phone only. Connection information will be posted online at: https://meetings.npfmc.org/Meeting/Details/2004.

Public Comment

Public comment letters will be accepted and should be submitted electronically to https://meetings.npfmc.org/Meeting/Details/2004.

Authority: 16 U.S.C. 1801 et seq.

Dated: March 30, 2021.
Tracey L. Thompson,
Acting Deputy Director, Office of Sustainable Fisheries, National Marine Fisheries Service.

[FR Doc. 2021-06838 Filed 4-1-21; 8:45 am]

BILLING CODE 3510-22-P